DEPARTMENT OF AGRICULTURE

Forest Service

2010 Resources Planning Act (RPA) Assessment Draft

AGENCY: Forest Service, USDA.

ACTION: Notice of availability; request for comment.

SUMMARY: The draft 2010 Resources Planning Act (RPA) Assessment is available for review and comment at http://www.fs.fed.us/research/rpa/. The RPA Assessment is a legislatively mandated periodic assessment of the condition and trends of the Nation's renewable resources on forests and rangelands.

DATES: Comments must be received in writing or electronically on or before September 30, 2011, to be assured of consideration. Comments received after that date will be considered to the extent practicable.

ADDRESSES: Comments concerning this notice should be addressed to Dr. Linda Langner, Quantitative Sciences Staff, Forest Service, 1400 Independence Avenue, SW., Mailstop 1115, Washington, DC 20250-1115. Comments also may be submitted via facsimile to 703-605-5131 or by email using the comment form on the Web site http://www.fs.fed.us/research/rpa/. All comments, including names and addresses when provided, are placed in the record and are available for public inspection and copying. The public may inspect comments received at USDA Forest Service, 1400 Independence Avenue, SW., Washington DC, during normal business hours. Visitors are encouraged to call ahead to 202-205-1665 to facilitate entry to the building.

FOR FURTHER INFORMATION CONTACT: Dr. Linda Langner, Quantitative Sciences Staff by phone at 703-605-4886 or by email to llangner@fs.fed.us. Additional information about the RPA Assessment can be obtained on the Internet at http://www.fs.fed.us/research/rpa/.

Individuals who use telecommunication devices for the deaf (TDD) may call the Federal Relay Service (FRS) at 1-800-877-8339 between 8 a.m. and 8 p.m., Eastern Standard Time, Monday through Friday.

SUPPLEMENTARY INFORMATION: The 2010 Resources Planning Act (RPA) Assessment is the fifth prepared in response to the mandate in the Forest and Rangeland Renewable Resources Planning Act (Pub. L. 93-378, 88 Stat. 475, as amended) that was enacted in 1974. The RPA Assessment is intended to provide reliable information on the status, trends, and projected future of the Nation's forests and rangelands on a 10-year cycle. The RPA Assessment includes analyses of forests, rangelands, wildlife and fish, biodiversity, water, outdoor recreation, wilderness, urban forests, and the effects of climate change upon these resources.

Dated: August 23, 2011.
Jimmy L. Reaves,
Deputy Chief, Research and Development.

[FR Doc. 2011-22240 Filed 8-30-11; 8:45 am]

BILLING CODE 3410-11-P